DEPARTMENT OF TRANSPORTATION

National Highway Traffic Safety Administration

Discretionary Cooperative Agreement Program To Address Impaired Motorcycle Operation

AGENCY: National Highway Traffic Safety Administration, DOT.

ACTION: Announcement of a discretionary cooperative agreement program to address Impaired Motorcycle Operation.

SUMMARY: The National Highway Traffic Safety Administration (NHTSA) announces a discretionary cooperative agreement to provide funding to individuals and organizations to address impaired motorcycle operation. The National Agenda for Motorcycle Safety lists reducing impaired riding as an urgent recommendation. The National Agenda for Motorcycle Safety was developed by a diverse group of motorcycle advocates, injury prevention specialists, health care, insurance, and safety research representatives working together. Sponsored by NHTSA and the Motorcycle Safety Foundation, the National Agenda provides eighty-two (82) recommendations, five (5) of which address impaired driving. The five recommendations on impaired driving are: (1) Study how alcohol, drugs and other substances, including over-the-counter medications, can affect a motorcyclists operating skills; (2) Study the alcohol, drug and other substance use patterns of motorcyclist's; (3) continue to discourage mixing alcohol and other drugs with motorcycling; (4) educate law enforcement about unique alcohol-related behavior of motorcyclists; (5) encourage partnerships with groups already involved in alcohol/substance abuse issues related to motor vehicle crashes (e.g., Mothers Against Drunk Driving, Students Against Destructive Decisions).

In February 2003, NHTSA published results of a focus group study that sought input from motorcyclists, those in leadership positions in motorcycling organizations and in traffic safety on what they perceived would be effective approaches in reducing impaired riding. The final report, Drinking, Riding, and Prevention: A Focus Group Study discusses the following approaches: (1) Peer to peer activities; (2) intervention techniques; and (3) social norms models; and (4) motorcycle impoundment.

In addition to the guidance provided National Agenda and Drinking, Riding, and Prevention: A Focus Group Study, other possible approaches include law enforcement and prosecutor training and in the detection of impaired motorcyclists, educating judges in the efficient handling of impaired riding cases, and projects that may be implemented by State motorcycle training programs.

These recommendations and approaches are designed to be a road map for interested motorcycle organizations or individuals as they develop programs to reduce impaired motorcycle operation.

NHTSA anticipates funding approximately four competitive cooperative agreements for a minimum of 2 years and a maximum of 3 years. To this end, this cooperative agreement will develop programs and projects that foster implementation of the National Agenda for Motorcycle Safety and Drinking, Riding, and Prevention: A Focus Group Study.

This notice solicits applications from public and private, non-profit, not for-profit, and for-profit organizations, State and local governments and their agencies or a consortium of the above. Interested applicants must submit an application packet as further described in the application section of this notice. The application will be evaluated to determine the proposals that will receive funding under this announcement. Non-federal employees under contract to NHTSA may serve on an application review team that will evaluate the applications.

DATES: Applications must be received in the office designated below on or before 3 p.m. (EST), on July 22, 2003.

ADDRESSES: Applications must be submitted to the National Highway Traffic Safety Administration, Office of Contracts and Procurement (NPO-220), Attention: Ross S. Jeffries, Contract Specialist, 400 Seventh Street SW., Room 5301, Washington, DC 20590. All applications submitted must include a reference to NHTSA Cooperative Agreement Program Number DTNH22-03-H-05133.

FOR FURTHER INFORMATION CONTACT: General administrative questions may be directed to Ross S. Jeffries, Office of Contracts and Procurement at (202) 366-6283, or by e-mail at rjeffries@nhtsa.dot.gov. Programmatic questions relating to this cooperative agreement program should be directed to Robert L. Hohn, Impaired Driving Division, NHTSA, 400 Seventh Street, SW., (NTI-111), Washington, DC 20590, by e-mail at bhohn@nhtsa.dot.gov, or by phone at (202) 366-9712. Interested applicants are advised that no separate application package exists beyond the contents of this announcement.

SUPPLEMENTARY INFORMATION:

Background

Despite significant gains since the enactment of Federal motor vehicle and highway safety legislation in the mid 1960s, the annual toll of traffic crashes remains tragically high. In 2001, the National Highway Traffic Safety Administration's (NHTSA) Fatality Analysis Reporting System (FARS) and General Estimates System (GES) reported that approximately 42,116 people were killed and another 3.03 million were injured on our Nation's roadways. Traffic crashes continue to account for 95 percent of all transportation fatalities and 99 percent of injuries, and represent the leading cause of death for individuals ages 4 through 33. The large number of crashes has placed a considerable burden on our Nation's health care system affecting the economy—reaching $230.6 billion a year, or an average of $820 for every person living in the United States.

Recent data indicate that injuries and deaths attributable to motorcycle crashes are becoming a larger portion of this grave public health problem. Motorcycle crash-related fatalities have been increasing since 1997, while injuries have been increasing since 1999. More than 100,000 motorcyclists have died in traffic crashes since the enactment of the Highway Safety Act and the National Traffic and Motor Vehicle Safety Act of 1966. Like other roadway users who are urged to protect themselves from injury or death by wearing safety belts, driving sober, and observing traffic rules, many motorcycle deaths could be prevented if motorcyclists would take responsibility for ensuring they have done everything possible to make the ride safe by taking operator training, becoming properly licensed, wearing protective gear, and riding sober.

The effects of a crash involving a motorcycle can often be devastating. While 20 percent of passenger vehicle crashes result in injury or death, an astounding 80 percent of motorcycle crashes result in injury or death. According to NHTSA's data, while total traffic deaths increased by four tenths of a percent in 2001, motorcycle deaths were up by 10 percent, compared to 2000. Motorcyclist fatalities have increased each year since reaching an historic low of 2,116 fatalities in 1997. It is estimated in 2002, 3,216 motorcyclists were killed, an increase of almost 55 percent between 1997 and 2002. Without this substantial increase in motorcyclist fatalities between 1997 and 2001, overall highway fatalities would have experienced a marked reduction of about 2.5 percent over this same time period.

The motorcycle community is experiencing astounding growth. New unit sales of on-highway motorcycles have increased approximately 91 percent since 1997. The Motorcycle Industry Council (MIC) estimates that 471,000 new on-highway motorcycles were sold in the United States in 2000 alone compared to 379,000 in 1999. In 2001, motorcycles represented 2.2 percent of all registered vehicles in the United States and accounted for 0.34 percent of vehicle miles traveled, but crashes involving motorcycles accounted for 7.6 percent of total traffic fatalities on America's roadways. MIC expects motorcycle sales to continue to increase over the next 5 to 7 years—meaning more motorcycles on our Nation's roadways.

Exposure, measured in terms of vehicle miles of travel (VMT) in 2001, shows that motorcyclists were about 26 times as likely to die in a crash than someone riding in a passenger car, and are 5 times as likely to be injured. This is a steep increase from 1997, when motorcyclists were 14 times as likely to die in a crash than someone riding in a passenger car. Per registered vehicle, the fatality rate for motorcyclists in 2001 was 4.1 times the fatality rate for passenger car occupants. The injury rate for passenger car occupants per registered vehicle was 1.2 times the injury rate for motorcyclists.

Like operators of other vehicles, motorcycle operator impairment, mainly from the use of alcohol, is a serious problem. In 2001, motorcycle operators in fatal crashes had higher intoxication rates than any other type of driver. Twenty-nine percent of fatally injured motorcycle operators were intoxicated at 0.08 g/dl or greater blood alcohol concentration (BAC), and another 7 percent were reported to be at BAC 0.01 to 0.07 g/dl. In single vehicle motorcycle crashes, 41 percent of the fatally injured motorcyclists were intoxicated with a BAC ≥.08 g/dl.

The risk entailed in drinking and then riding is exacerbated by other risk-taking behaviors, such as riding without the proper protective gear, including protective clothing and a motorcycle helmet. Data indicate that in 2001, only 40 percent of intoxicated motorcycle operators killed wore helmets, compared with 60 percent for those who were sober. The intoxication rate was highest for fatally injured operators between 40 to 44 years old (42 percent), followed by ages 35 to 39 (40 percent) and ages 30 to 34 (35 percent). More than 5 percent of motorcycle operators in fatal crashes in 2001 had at least one prior conviction for driving while intoxicated on their driver records, compared to fewer than 4 percent of passenger vehicle drivers.

The National Agenda for Motorcycle Safety reflects the thoughts and visions of the participants who developed recommendations that address motorcycle safety on a variety of fronts. The publication is used as a stepping-stone in the process of changing the motorcycling environment as it relates to motorcycle safety.

The approaches outlined in the Drinking, Riding and Prevention: A Focus Group Study are considered, by the participants, to be those that will have the most impact on changing the behavior and attitude of motorcyclists regarding impaired riding. The recommended approaches are: (1) Peer to peer activities—the strong social fabric of motorcyclists and ongoing informal peer-based activities to reduce drinking riding suggests building upon this foundation to effectively reduce impaired riding. The goal is to encourage peers to promote personal responsibility safe drinking and riding practices (through drinking and riding awareness); (2) intervention techniques—many of the riders participating in the focus groups discussed the need for awareness training for servers and event staff for intervention with intoxicated riders. The riders stressed the importance of server expertise in responsible alcohol service and intervention strategies; (3) social norms models—social norms models may be effective because many riders report that their groups already discourage drinking and riding and that new and independent riders may harbor misconceptions of rider views toward drinking and riding. These models may serve to reinforce ongoing and future peer-based interventions; and (4) motorcycle impoundment—riders participating the focus groups suggested that impounding motorcycles might be an effective countermeasure to drinking and riding. Since motorcyclists prize their motorcycles, the possibility of losing motorcycles through impoundment for violating impaired driving laws could possibly deter irresponsible drinking.

The challenge is to determine which approaches are most effective and have the most impact on reducing the incidence of impaired riding. To help facilitate this evaluation process, NHTSA proposes to support four (4) cooperative agreement programs aimed at implementing one or more of the approaches outlined in the National Agenda for Motorcycle Safety and Drinking, Riding, and Prevention: A Focus Group Study.

Copies of the National Agenda for Motorcycle Safety and Drinking, Riding, and Prevention: A Focus Group Study are available on the NHTSA Web site at http://www.nhtsa.dot.gov/people/injury/pedbimot/motorcycle/index.html.

Purpose

The purpose of this cooperative agreement program is to support implementation of the approaches recommended in Drinking, Riding, and Prevention: A Focus Group Study. Approximately four projects will be supported. Applications based upon the recommendations of the National Agenda will be considered if they support the approaches discussed in Drinking, Riding, and Prevention: A Focus Group Study. Each cooperative agreement recipient will be expected to implement and evaluate an approach to determine the effectiveness of reducing the incidence of impaired riding. Project length will vary depending on the scope of the proposed effort. However, projects will be considered for a minimum of two years and a maximum of three years. Upon completion, the programs may be implemented in other areas for a more thorough evaluation.

Objective

The objective of this cooperative agreement is to provide funds for implementing and evaluating one or more of the approaches outlined in Drinking, Riding, and Prevention: A Focus Group Study to determine the effectiveness in reducing impaired riding. Applications may address any one or more of the approaches. Applications based upon the recommendations of the National Agenda will be considered if they support the approaches discussed in Drinking, Riding, and Prevention: A Focus Group Study. Examples of possible projects include activities or program that:

1. Enhance peer-to-peer activities relating to personal responsibility.

2. Enhance social norms within groups to discourage drinking and riding.

3. Focus on training servers and event staff in intervention with impaired riders.

4. Effectively separate impaired riders from their motorcycle, while providing appropriate security for the motorcycle.

5. Provide training to law enforcement personnel and prosecutors in the detection of impaired motorcyclists and conduct specialized enforcement campaigns to reduce the incidence of impaired riding.

6. Develop educational programs for judges to increase efficiency in handling impaired motorcyclist cases.

7. Develop and evaluate projects to be implemented by State motorcycle training programs that will impact the impaired motorcyclist.

Proposal seeking support for a public information and education campaign will not be considered. However, public information and education materials used to support an activity or programs are acceptable.

NHTSA Involvement

NHTSA will be involved in all activities undertaken as part of the cooperative agreement program and will:

1. Provide a Contracting Officer's Technical Representative (COTR) to participate in the planning and management of this cooperative agreement and to coordinate activities between the Grantee and NHTSA.

2. Provide information and technical assistance from state and local government sources and as determined appropriate by the COTR.

3. Serve as a liaison between NHTSA Headquarters, Regional Offices, and others (Federal, State and local) interested in reducing motorcycle-related injuries and fatalities and promoting the activities of the grantee.

4. Review and provide comments on program content, reviews materials, and evaluation activities.

5. Stimulate the transfer of information among grant recipients and others engaged in motorcycle safety activities.

Availability of Funds

Approximately $400,000 is available to fund a number of projects. The total number of awards will depend on the nature of the projects submitted for consideration. Given the amount of funds available for this effort, applicants are strongly encouraged to seek other funding opportunities to supplement the Federal funds. At the discretion of the government, funds may be obligated fully at the time of award of the cooperative agreement or incrementally over the period of the cooperative agreement. Nothing in this solicitation should be constructed as committing NHTSA to make any award.

Period of Performance

The period of performance for this cooperative agreement will be up to 3 years from the effective date of award. However, the actual period of performance will depend on the scope of work for the submitted project.

Eligibility Requirements

Public and private, non-profit, not-for-profit, and for-profit organizations, and State and/or local governments and their agencies or a consortium of the above may submit applications. Thus, universities, colleges, research institutions, hospitals, other public and private organizations, and state and local governments are eligible to apply. Interested applicants are advised that no fee or profit will be allowed under this cooperative agreement program. Preference may be given to those applications that have proposed cost-sharing strategies and/or other proposed funding sources in addition to those in this announcement. Applications seeking support for only a public information and education campaign will not be considered.

To be eligible to participate in this cooperative agreement, applicants must meet the following special competencies:

1. Demonstrate expertise in traffic safety, program development and implementation, and knowledge and experience in motorcycle safety issues, especially related to the specific approaches addressed by applicant.

2. Demonstrate capability of technical and management skills to successfully administer and complete projects in a timely manner. Include a narrative description of the documented experience, clearly indicating the relationship to this project and providing details such as project description and sponsoring agency. References to completed final project reports should include author's name.

3. Demonstrate capacity to:

a. Design, implement, and evaluate innovative approaches for addressing difficult problems related to issues associated with impaired motorcycle riding;

b. Work successfully with motorcycle and other community groups;

c. Collect and analyze both quantitative and qualitative data; and

d. Synthesize, summarize, and report results, which are useable and decision-oriented.

4. Demonstrate experience in working in partnership with others, for example, law enforcement, health care systems, government agencies, the media, etc.

Application Procedure

Each applicant must submit one (1) original and five (5) copies of the application package to: NHTSA, Office of Contracts and Procurement (NPO-220), Attention: Ross S. Jeffries, Contract Specialist, 400 Seventh Street SW., Room 5301, Washington, DC 20590. Applications must include a completed Application for Federal Assistance (Standard Form 424—Revised 4/88).

Only complete packages received on or before 3 p.m., July 22, 2003 will be considered. No facsimile transmissions will be accepted. Due to the large number of actions being processed, applications must be typed on one side of the page only and contain a reference to NHTSA Cooperative Agreement Number DTNH22-03-H-05133. Unnecessarily elaborate applications beyond what is sufficient to present a complete and effective response to this invitation are not desired. Please direct application questions to Ross S. Jeffries, at (202) 366-6283 or by email at rjeffries@nhtsa.dot.gov. Programmatic questions should be directed to Robert L. Hohn, at (202) 366-9712 or by email at bhohn@nhtsa.dot.gov.

Application Procedure and Contents

A. The application package must be submitted with OMB Standard Form 424, (Rev 7-97 or 4-88, including 424A and 424B), Application for Federal Assistance, including 424A, Budget Information-Nonconstruction Program, and 424B, Assurances-Nonconstruction Programs, with the required information provided and the certified assurances included. While the Form 424-A deals with budget information, and Section B identifies Budget Categories, the available space does not permit a level of detail, which is sufficient to provide for a meaningful evaluation of the proposed costs. A supplemental sheet should be provided which presents a detailed breakout of the proposed costs (detail labor, including labor category, level of effort, and rate; direct materials, including itemized equipment; travel and transportation, including projected trips and number of people traveling; subcontractors/subgrants, with similar detail, if known; and overhead), as well as any costs the applicant proposes to contribute or obtain from other sources in support of the projects in the project plan.

B. Funding sources other than the funds being provided through this cooperative agreement are encouraged. Since activities may be performed with a variety of financial resources, applicants need to fully identify all project costs and their funding sources in the proposed budget. The proposed budget must identify all funding sources in sufficient detail to demonstrate that the overall objectives of the project will be met.

C. Program Narrative Statement: Proposal must fully describe the scope of the project, detailing the activities and costs for which funding is being requested. Also, applications for this program must include the following information in the program narrative statement:

1. A table of contents including page number references.

2. A description of the community (if applicable to effort proposed by grantee) in which the grantee proposes to implement a motorcycle safety program effort in support of the selected approach identified in Drinking, Riding, and Prevention: A Focus Group Study or the National Agenda for Motorcycle Safety that support the approaches identified in the focus group study. For the purpose of this program a community includes a city, town or county, small metropolitan area or a group of cities, towns or counties in particular region. It should be large enough so that the program can have a demonstrable effect on motorcycling and motorcycle safety. The description of the community should include, at a minimum, community demographics including motorcycle population, the community's motorcycle impaired riding problems, data sources available, existing traffic safety programs, motorcycle education programs and community resources.

3. A description of the project or program's goal and how the grantee plans to meet the goal. The grantee must be specific with respect to the particular approach being addressed and how the grantee will successfully address the issues addressed in the approach. For example, if the grantee is proposing to develop training for law enforcement personnel and prosecutors in the detection of impaired motorcyclists, how will the training program be selected? How will specialized enforcement be conducted? What partnerships may be necessary? What criteria will be used to evaluate the training? How will the results be reported?

4. A description of the specific activity proposed by the grantee. What actions will be undertaken to support the proposed project? What partners need to be involved in the effort to ensure success? To what degree has the buy-in of these groups been secured? How does the proposed project contribute to reducing impaired motorcycle riding? What is “success” and how will it be determined?

5. A description of the evaluation plan, including how information (data) will be obtained, compiled, analyzed, and reported.

6. A description of how the proposed projects will be managed. The application shall identify the proposed project manager and other personnel considered critical to the successful accomplishment of the project, including a brief description of their qualifications and respective organizational responsibilities. The role and responsibilities of the grantee and any others included in the application package shall be specified. The proposed level of effort in performing the various activities shall also be identified.

7. A detailed explanation of time schedules, milestones, and product deliverables, including monthly reports and draft and final reports. (See Terms and Conditions of Award.)

8. A separately-labeled section with information demonstrating that the applicant meets all of the special requirements outlined in the Eligibility Requirements section of this announcement.

D. Commitment and Support: When other sources and organizations are required to complete the proposed effort, the grantee shall provide proof of said organization's willingness to cooperate on the effort. Such proof can be a letter of support or buy-in indicating what the organization will supply to the grantee.

Application Review Process and Criteria

Each application package will be reviewed initially to confirm that the applicant is an eligible recipient, meets applicant competency factors listed in the Eligibility Requirements section, and has included all of the items specified in the Application Procedures section of this announcement. An Evaluation Committee will then evaluate each complete application from an eligible recipient. Non-federal employees under contract to NHTSA may serve on this Evaluation Committee.

The applications will be evaluated using the following criteria:

A. Project Management and Staffing (30 percent)

The extent to which the proposed staff are clearly described, appropriately assigned, and have adequate skills and experiences; the extent to which the applicant has the capacity and facilities to administer and execute the proposed project; the extent to which the applicant has the expertise in program development and evaluation and meets the special competency requirements; and to the extent to which the applicant has provided details regarding the level of effort and allocation of time for each staff position. The applicant must furnish an organizational chart and résumés of each proposed staff member. Is the applicant's staffing plan reasonable for accomplishing the objectives of the project within the time frame set forth in the announcement? Is the timeline submitted by the grantee reasonable? Has the applicant's financial budget provided sufficient detail to allow NHTSA to determine that the estimated costs are reasonable and necessary to perform the proposed effort? Has financial or in-kind commitment of resources by the applicant's organization or other supporting organizations been clearly identified? Documented experience in developing, implementing and evaluating motorcycle safety or impaired driving programs.

B. Goals, Objectives, and Work Plan (25 percent)

The extent to which the applicant's goals are clearly articulated and the objectives are time-phased, specific, action-oriented, measurable, and achievable. The extent to which the work plan will achieve an outcome-oriented result that ultimately will reduce the incidence of impaired motorcycle riding. The work plan must address what the applicant proposes to develop and implement; how this will be accomplished; and must include the major tasks/milestones necessary to complete the project. This involves identification of, and solutions to, potential technical problems and critical issues related to successful completion of the project. The work plan will be evaluated with respect to its feasibility, realism, and ability to achieve desired outcomes.

C. Evaluation Plan (20 percent)

The extent to which the evaluation plan clearly articulates the project's potential to make a significant impact on reducing impaired motorcycle riding and the associated crashes, injuries and fatalities. This should be more than a process evaluation. The extent, to which the evaluation plan indicates how the information/data collected in the project will be compiled, analyzed, interpreted and reported. When information is qualitative, what criteria will be used to analyze it? Are there sufficient data/information sources and is access ensured from appropriate owners or collectors of data to obtain and appropriately analyze the quantitative and qualitative information needed on the proposed project?

D. Program Approach (15 percent)

The extent to which the applicant is knowledgeable about impaired motorcycle riding and programs. The extent to which the applicant clearly identifies and explains creative approaches to address reducing impaired motorcycle riding, based on the selection of one or more of the approaches previously listed. If building on an existing approach or program, what are the innovative, new, or creative features that make this project different from what has been tried in the past? Has the applicant identified potential barriers associated with developing and implementing the new, creative approach? Has the applicant offered solutions for addressing the barriers? Has the applicant demonstrated how the project maybe adaptable to other jurisdictions at a reasonable cost? Has the applicant identified partners and groups to work on the proposed project? Has the applicant specified who will be involved and what each will contribute to the project? What new or non-traditional partners has the applicant involved in the project?

E. Special Competencies (10 percent)

The extent to which the applicant has met the special competencies (see Eligibility Requirements) including knowledge and familiarity with motorcycle impairment issues associated with the proposed intervention or effort; technical and management skills needed to successfully design, conduct, and evaluate the proposed effort; ability to work with various organizations and the motorcycle community to implement programs or compile data; ability to design and implement approaches for addressing motorcycle safety related problems; and experience in fostering new partnership with nontraditional partners.

Special Award Selection Factors

While not a requirement of this announcement, applicants are strongly urged to seek funds from other Federal, State, local, and private sources to augment those available under this announcement. For those applications that are evaluated as meritorious for consideration of award, preference may be given to those that have proposed cost-sharing strategies and/or other proposed funding sources in addition to those in this announcement.

Terms and Conditions of Award

1. Prior to award, each grantee must comply with the certification requirements of 49 CFR part 20, Department of Transportation New Restrictions on Lobbying, and 49 CFR part 29, Department of Transportation government wide Debarment and Suspension (Non-procurement) and Government-wide Requirement for Drug Free Work Place (Grants).

2. Reporting Requirements and Deliverables: A. Monthly Progress Reports must include a summary of the previous month's activities and accomplishments, as well as the proposed activities for the upcoming month. Any decisions and actions required in the upcoming month should be included in the report. Any problems and issues that may arise and need the Contracting Officer's Technical Representative (COTR) or Contracting Officer (CO) attention should be clearly identified in the monthly report in a specific, identified section. The grantee shall supply the progress report to the COTR every thirty (30) days, following date of award.

B. Initial and Subsequent Meetings with COTR: The grantee will meet with the COTR and appropriate NHTSA staff in Washington, DC at NHTSA's offices to discuss and refine the development, implementation, and evaluation of the project. The grantee will prepare a 20 to 30 minute presentation describing the project and will be prepared to answer questions from the COTR and others present at the briefing. After this initial meeting with the COTR, the grantee should meet at least once a year with the COTR in Washington, DC at NHTSA's offices to discuss the project's progress and results. These meetings will be a minimum of 4 hours in length.

C. Revised Project Plan: If needed, the grantee will submit a revised project plan incorporating verbal and written comments from the COTR. This revised plan is due no more than one (1) month from date of the initial meeting with COTR.

D. Draft Final Report: The grantee will prepare a Draft Final Report that includes a description of the project, issue addressed, program implementation (if relevant), evaluation strategies, findings and recommendations. With regard to technology transfer, it is important to know what worked and what did not work, under what circumstances, what can be done to enhance replication in similar communities, and what can be done to avoid potential problems for future replication of the project. This is true even if the applicant reviewed and documented existing programs. The grantee will submit Draft Final Report to the COTR 60 days prior to the end of the performance period. The COTR will review the draft report and provide comments to the grantee within 30 days of receipt of the document.

E. Final Report: The grantee will revise the Draft Final Report to reflect the COTR's comments. The revised final report will be delivered to the COTR 15 days before the end of the performance period.

F. Requirements for Printed Material: The print materials shall be provided to NHTSA in both camera ready and appropriate media formats (disk, CD-ROM) with graphics and printing specifications to guide NHTSA's printing office and any outside organization implementing the program. Printing Specifications follow.

1. Digital artwork for printing shall be provided to NHTSA on diskette (250 meg Zip disk or CD ROM). Files should be in current desktop design and publication programs, for example, Adobe Illustrator, Adobe Photoshop, Adobe PageMaker, Macromedia Freehand, QuarkXPress. The contractor shall provide all supporting files and fonts (both screen and printers) needed for successful output, black and white laser separations of all pages, disk directory(s) with printing specifications provided to the Government Printing Office (GPO) on GPO Form 952 to guide NHTSA's printing office, GPO, and any outside organizations assisting with program production. The contractor shall confer with the COTR to verify all media format and language.

2. Additionally, the program materials shall be submitted in the following format for placement on NHTSA's homepage of the World Wide Web.

• Original application format, for example, *pm5; *.doc; *.ppt; etc.

• HTML level 3.2 or later.

• A PDF file for viewing with Adobe Acrobat.

3. All HTML deliverables must be delivered on either a standard 3.5” floppy disk or on a Windows 95 compatible formatted Iomega zip disk and labeled with the following information:

• Contractor name and phone number.

• Names of relevant files.

• Application program and version used to create the file(s).

• If the files exceed the capacity of a high density floppy, a Windows 95 compatible formatted Iomega zip disk is acceptable

4. Graphics must be saved in Graphic Interchange Format (GIF) or Joint Photographic Expert Group (JPEG). Graphics should be prepared in the smallest size possible, without reducing the usefulness or the readability of the figure on the screen. Use GIF for solid color or black and white images, such as bar charts, maps, or diagrams. Use JPEG (highest resolution and lowest compression) for photographic images having a wider range of color or grayscale tones. When in doubt, try both formats and use the one that gives the best image quality for the smallest file size. Graphic files can be embedded in the body of the text or linked form the body text in their own files: the latter is preferable when a figure needs to be viewed full screen (640 X 480 pixels) to be readable.

• Tabular data must be displayed in HTML table format.

• List data must be displayed in HTML list format.

• Pre-formatted text is not acceptable.

• Currently, frames are not acceptable.

• JAVA, if used, must not affect the readability or usefulness of the document, only enhance it.

• Table background colors may be used, but must not be relied upon (for example, a white document background with a table with colored background may look nice with white text, but the colored background does not show up on the user's browser the text will be white against white and unreadable).

• All HTML documents must be saved in PC format and tested on a PC before delivery.

5. During all phases of program development, draft program content and materials shall be provided to the COTR, as appropriate, for approval and coordination within NHTSA. If applicable, draft materials shall also be used for program message testing (the method of testing chosen in consultation with and approved by the COTR) to ensure that the content and messages are clear, easily understood and produce the desired effect with intended audiences.

6. All HTML deliverables rendered under this contract must comply with the accessibility standards at 36 CFR 1194.22 that implements Section 508 of the Rehabilitation Act of 1973, as amended. This standard is available for viewing at the Access Board Web site at: http://www.access-board.gov/sec508/guide/1194.22.htm.

Unless otherwise indicated, the contractor represents by signature of this contract that all deliverables comply with the Access Board standards.

G. Final project briefing to NHTSA and a presentation to a national meeting: The grantee will deliver a briefing in Washington, DC at NHTSA's offices to the COTR and appropriate NHTSA staff to review the project implementation, evaluation, and results. This presentation shall last no less than 30 minutes and the grantee shall be prepared to answer questions from the briefing's attendees.

In consultation with the COTR, the grantee will select a national meeting to deliver a presentation of the project and it effectiveness.

H. An electronic Microsoft PowerPoint (2000) presentation that NHTSA staff shall be able to use to brief senior staff or motorcycle partners at various meetings and conference.

3. During the effective performance period of the cooperative agreements awarded as a result of this announcement, the agreement as applicable to the grantee, shall be subject to the National Highway Traffic Safety Administration's General Provisions for Assistance Agreement, dated July 1995.

Issued on: July 22, 2003.
Marilena Amoni,
Associate Administrator for Program Development and Delivery.

[FR Doc. 03-15925 Filed 6-23-03; 8:45 am]

BILLING CODE 4910-59-P